Memorandum of January 30, 2012

Delegation of Authority in Accordance With Sections 610 and 652 of the Foreign Assistance Act of 1961, as Amended and Section 7009(d) of the Department of State, Foreign Operations, and Related Programs Appropriations Act, 2010, as Carried Forward by the Department of Defense and Full-Year Continuing Appropriations Act, 2011

Memorandum for the Secretary of State

By the authority vested in me as President by the Constitution and the laws of the United States of America, including section 610 of the Foreign Assistance Act of 1961, as amended, (FAA) and section 301 of title 3 of the United States Code, I hereby delegate to you the authority, subject to the below condition, to transfer $12 million in the FY 2011 Nonproliferation, Antiterrorism, Demining, and Related Programs account to the Economic Support Funds account for programs to counter violent extremism.

Prior to exercising this authority, I hereby delegate to you the authority to fulfill the requirements of section 652 of the FAA and section 7009(d) of the Department of State, Foreign Operations, and Related Programs Appropriations Act, 2010 (Division F, Public Law 111-117), as carried forward by the Department of Defense and Full-Year Continuing Appropriations Act, 2011 (Division B, Public Law 112-10).

You are hereby authorized and directed to publish this memorandum in the Federal Register.

THE WHITE HOUSE,

Washington, January 30, 2012

[FR Doc. 2012-4599

Filed 2-23-12; 11:15 am]

Billing code 4710-10-P